DEPARTMENT OF COMMERCE

International Trade Administration

[A-549-853]

Large Top Mount Combination Refrigerator-Freezers From Thailand: Initiation of Less-Than-Fair-Value Investigation; Correction

AGENCY: Enforcement and Compliance, International Trade Administration, Department of Commerce.

ACTION: Notice; correction.

SUMMARY: The U.S. Department of Commerce (Commerce) published notice in the Federal Register of July 16, 2024, in which Commerce initiated the less-than-fair-value (LTFV) investigation on large top mount combination refrigerator-freezers (refrigerators) from Thailand. This notice incorrectly stated that the U.S. International Trade Commission (ITC) will make its preliminary determination within 45 days after the date on which the petition was filed.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On July 16, 2024, Commerce published in the Federal Register the initiation notice of the LTFV investigation on refrigerators from Thailand.¹ In that notice, Commerce incorrectly stated that the ITC will make its preliminary determination within 45 days after the date the petition was filed.

¹ See Large Top Mount Combination Refrigerator-Freezers from Thailand: Initiation of Less-Than-Fair-Value Investigation, 89 FR 57860 (July 16, 2024).

Correction

In the Federal Register of July 16, 2024, in FR Doc 2024-15601,² on page 57864, in the first column, correct the text under the section titled “Preliminary Determination by the ITC” as follows:

² Id.

The ITC will preliminarily determine, within 25 days after the date on which the ITC receives notification from Commerce of initiation of the investigation, whether there is a reasonable indication that imports of refrigerators from Thailand are materially injuring, or threatening material injury to, a U.S. industry.³ A negative ITC determination will result in the investigation being terminated.⁴ Otherwise, this LTFV investigation will proceed according to statutory and regulatory time limits.

³ See section 733(a) of the Tariff Act of 1930, as amended (the Act).

⁴ Id.

Notice to Interested Parties

This notice is issued and published in accordance with sections 732(c)(2) and 777(i)(1) of the Act, and 19 CFR 351.203(c).

Dated: July 18, 2024.
Ryan Majerus,
Deputy Assistant Secretary for Policy and Negotiations, performing the non-exclusive functions and duties of the Assistant Secretary for Enforcement and Compliance.

[FR Doc. 2024-16273 Filed 7-23-24; 8:45 am]

BILLING CODE 3510-DS-P